DEPARTMENT OF COMMERCE

International Trade Administration

[C-570-980]

Crystalline Silicon Photovoltaic Cells, Whether or Not Assembled Into Modules, From the People's Republic of China: Final Results and Partial Rescission of Countervailing Duty Administrative Review; 2020

AGENCY: Enforcement and Compliance, International Trade Administration, Department of Commerce.

SUMMARY: The U.S. Department of Commerce (Commerce) determines that countervailable subsidies are being provided to producers/exporters of crystalline silicon photovoltaic cells, whether or not assembled into modules (solar cells), from the People's Republic of China (China) during the period of review (POR) January 1, 2020, through December 31, 2020. Commerce is also rescinding this review with respect to sixty companies that had no reviewable entries during the POR.

DATES: Applicable July 11, 2023.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On January 10, 2023, Commerce published the preliminary results of this administrative review.¹ For a description of the events that occurred since the Preliminary Results, see the Issues and Decision Memorandum.²

¹ See Crystalline Silicon Photovoltaic Cells, Whether or Not Assembled into Modules from the People's Republic of China: Preliminary Results of Countervailing Duty Administrative Review, Rescission, and Intent to Rescind, in Part; 2020, 88 FR 1355 (January 10, 2023) (Preliminary Results).

² See Memorandum, “Issues and Decision Memorandum for the Final Results and Partial Rescission of the Administrative Review of the Countervailing Duty Order on Crystalline Silicon Photovoltaic Cells, Whether or Not Assembled into Modules, from the People's Republic of China; 2020,” dated concurrently with, and hereby adopted by, this notice (Issues and Decision Memorandum).

Scope of the Order

The products covered by the Order are solar cells from China.³ For a full description of the scope of the Order, see the Issues and Decision Memorandum.

³ On December 7, 2012, the Order was published. See Crystalline Silicon Photovoltaic Cells, Whether or Not Assembled into Modules, from the People's Republic of China: Countervailing Duty Order, 77 FR 73017 (December 7, 2012). On December 17, 2021, based on a changed circumstances review, the Order was amended. See Crystalline Silicon Photovoltaic Cells, Whether or Not Assembled into Modules, from the People's Republic of China: Final Results of Changed Circumstances Reviews, and Revocation of the Antidumping and Countervailing Duty Orders, in Part, 86 FR 71615 (December 21, 2021) (Order).

Analysis of Comments Received

The Issues and Decision Memorandum addresses all issues raised in the interested parties' briefs. A list of topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNoticesListLayout.aspx.

Verification

Pursuant to section 782(i) of the Tariff Act of 1930, as amended (the Act), and 19 CFR 351.307(b)(v), we conducted verification of the questionnaire responses of Risen Energy Co., Ltd. (Risen).⁴

⁴ See Memorandum, “Verification of Risen's Questionnaire Responses,” dated January 13, 2023.

Changes Since the Preliminary Results

Based on comments received from interested parties and record information, we made certain changes from the Preliminary Results regarding the calculations of Risen's and Jinko Solar Import and Export Co., Ltd.'s (Jinko) program rates. These changes are explained in the Issues and Decision Memorandum.

Methodology

Commerce conducted this administrative review in accordance with section 751(a)(1)(A) of the Act. For each subsidy program found to be countervailable, Commerce finds that there is a subsidy, i.e., a financial contribution from a government or public entity that gives rise to a benefit to the recipient, and that the subsidy is specific.⁵ For a description of the methodology underlying all of Commerce's conclusions, including any determination that relied upon the use of adverse facts available pursuant to section 776(a) and (b) of the Act, see the Issues and Decision Memorandum.

⁵ See sections 771(5)(B) and (D) of the Act regarding financial contribution; section 771(5)(E) of the Act regarding benefit; and section 771(5A) of the Act regarding specificity.

Partial Rescission of Administrative Review

It is Commerce's practice to rescind an administrative review of a countervailing duty order, pursuant to 19 CFR 351.213(d)(3), when there are no reviewable entries of subject merchandise during the POR for which liquidation is suspended.⁶ Normally, upon completion of an administrative review, the suspended entries are liquidated at the countervailing duty assessment rate calculated for the review period.⁷ Therefore, for an administrative review of a company to be conducted, there must be a reviewable, suspended entry that Commerce can instruct U.S. Customs and Border Protection (CBP) to liquidate at the calculated countervailing duty assessment rate calculated for the review period.⁸

⁶ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

⁷ See 19 CFR 351.212(b)(2).

⁸ See 19 CFR 351.213(d)(3).

We continue to find that sixty companies subject to this review did not have reviewable entries of subject merchandise for which liquidation is suspended. Because there is no evidence on the record to indicate that these companies had entries, exports, or sales of subject merchandise during the POR, we are rescinding this review with respect to these companies consistent with 19 CFR 351.213(d)(3). See Appendix III for a complete list of these companies.

Companies Not Selected for Individual Review

The Act and Commerce's regulations do not directly address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies that were not selected for individual examination in an administrative review. Section 777A(e)(2) of the Act provides that “the individual countervailable subsidy rates determined under subparagraph (A) shall be used to determine the all-others rate under section 705(c)(5) {of the Act}.” Under section 705(c)(5)(A) of the Act, the all-others rate is normally “an amount equal to the weighted average of the countervailable subsidy rates established for exporters and producers individually investigated, excluding any zero or de minimis countervailable subsidy rates, and any rates determined entirely {on the basis of facts available}.”

For these final results, we calculated above de minimis rates for Risen and Jinko. Therefore, for the remaining companies under review, we calculated the rate for the non-examined companies using a weighted average of the individual subsidy rates calculated for the two mandatory respondents, which is 12.61 percent ad valorem.⁹ See Appendix II for a complete list of these companies.

⁹ See Rate for Non-Examined Companies Memorandum.

Final Results of Review

In accordance with 19 CFR 351.221(b)(5), we determine that, for the period January 1, 2020, through December 31, 2020, the following net countervailable subsidy rates exist:

¹⁰ This rate applies to: Jinko Solar Import and Export Co., Ltd. and its cross-owned companies: Zhejiang Jinko Solar Co., Ltd.; JinkoSolar Technology (Haining) Co., Ltd.; Jinko Solar Co., Ltd.; Yuhuan Jinko Solar Co., Ltd.; JinkoSolar (Chuzhou) Co., Ltd.; JinkoSolar (Yiwu) Co., Ltd.; JinkoSolar (Shangrao) Co., Ltd.; Xinjiang Jinko Solar Co., Ltd.; JinkoSolar (Sichuan) Co., Ltd.; Jiangxi Jinko Photovoltaic Materials Co., Ltd.; Ruixu Industrial Co., Ltd.; and Jinko Solar (Shanghai) Management Co., Ltd.

¹¹ This rate applies to: Risen Energy Co., Ltd. and its cross-owned companies: Risen Energy (Luoyang) Co., Ltd.; Risen Energy (Wuhai) Co., Ltd.; Risen Energy (Changzhou) Co., Ltd.; Risen Energy (Ningbo) Co., Ltd.; Risen Energy (Yiwu) Co., Ltd.; Zhejiang Boxin Investment Co., Ltd.; Zhejiang Twinsel Electronic Technology Co., Ltd.; Jiangsu Sveck New Material Co., Ltd.; Changzhou Sveck Photovoltaic New Material Co., Ltd. (including Changzhou Sveck Photovoltaic New Material Co., Ltd. Jintan Danfeng Road Branch); Changzhou Sveck New Material Technology Co., Ltd.; Ninghai Risen Energy Power Development Co., Ltd.; Risen (Ningbo) Electric Power Development Co., Ltd.; Changzhou Jintan Ningsheng Electricity Power Co., Ltd.; and Risen (Changzhou) Import and Export Co., Ltd.

¹² See Appendix II of this notice for a list of all companies that remain under review but were not selected for individual examination and to which Commerce has assigned the non-examined company rate.

Producer/exporter | Subsidy rate (percent ad valorem)
Jinko Solar Import and Export Co., Ltd.¹⁰ | 10.33
Risen Energy Co., Ltd.¹¹ | 14.27
Non-Examined Companies ¹² | 12.61

Disclosure

Commerce will disclose to the parties in this proceeding the calculations performed for these final results within five days of the date of publication of this notice in the Federal Register.¹³

¹³ See 19 CFR 351.224(b).

Assessment Rates

Pursuant to sections 751(a)(1) and (a)(2)(C) of the Act and 19 CFR 351.212(b), Commerce shall determine, and CBP shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded, Commerce will instruct CBP to assess countervailing duties on all appropriate entries at a rate equal to the cash deposit of estimated countervailing duties required at the time of entry, or withdrawal from warehouse, for consumption, during the POR in accordance with 19 CFR 351.212(c)(l)(i).

Cash Deposit Instructions

In accordance with section 751(a)(1) and (a)(2)(C) of the Act, Commerce intends to instruct CBP to collect cash deposits of estimated countervailing duties in the amounts shown for the companies listed above on shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposits, when imposed, shall remain in effect until further notice.

Administrative Protective Order

This notice also serves as a reminder to parties subject to the administrative protective order (APO) of their responsibility concerning the return or destruction of proprietary information disclosed under APO in accordance with 19 CFR 351.305(a)(3). Timely written notification of the return/destruction of APO materials or conversion to a judicial protective order is hereby requested. Failure to comply with the regulations and terms of an APO is a sanctionable violation.

Notification to Interested Parties

Commerce is issuing the final results and publishing this notice in accordance with sections 751(a)(1) and 777(i)(1) of the Act, and 19 CFR 351.221(b)(5).

Dated: June 29, 2023.
Lisa W. Wang,
Assistant Secretary for Enforcement and Compliance.

Appendix I

List of Topics Discussed in the Issues and Decision Memorandum

I. Summary

II. Background

III. Scope of the Order

IV. Rescission of the Administrative Review, in Part

V. Rate for Non-Selected Companies Under Review

VI. Use of Facts Available and Application of Adverse Inferences

VII. Changes Since the Preliminary Results

VIII. Subsidies Valuation

IX. Analysis of Programs

X. Discussion of Comments

Comment 1: Whether Commerce Should Apply Adverse Facts Available (AFA) to the Export Buyer's Credit Program (EBCP)

Comment 2: Whether Commerce Should Find That Input Producers of Solar Grade Polysilicon, Aluminum Extrusions, and Solar Glass Are Authorities

Comment 3: Whether Commerce Should Find That the Provision of Electricity for Less Than Adequate Remuneration (LTAR) Program Is Countervailable

Comment 4: Whether Commerce Should Revise Jinko's Denominator

Comment 5: Whether Commerce Should Attribute Risen's Subsidies to Its Consolidated Sales

Comment 6: Whether Commerce Should Change the Benchmark for the Provision of Polysilicon for LTAR

Comment 7: Whether Commerce Should Change the Benchmark for the Provision of Solar Glass for LTAR

Comment 8: Whether Commerce Should Change the Benchmark for the Provision of Aluminum Extrusions for LTAR

Comment 9: Whether Commerce Should Change the Inland Freight Values Used for the Benefit Calculation of the Provision of Solar Glass, Aluminum Extrusions, and Solar Grade Polysilicon for LTAR Programs

Comment 10: Whether Commerce Should Change the Ocean Freight Benchmark

Comment 11: Whether Commerce Made Errors in Jinko's Preliminary Calculation

Comment 12: Whether Commerce Made Errors in Risen's Preliminary Calculation

XI. Recommendation

Appendix II

Non-Examined Companies Under Review

1. Anji Dasol Solar Energy Science & Technology Co., Ltd.

2. BYD (Shangluo) Industrial Co., Ltd.; Shanghai BYD Co., Ltd.

3. Chint New Energy Technology (Haining) Co., Ltd.

4. Chint Solar (Zhejiang) Co., Ltd.

5. JA Solar (Xingtai) Co., Ltd.

6. JA Solar Technology Yangzhou Co., Ltd.

7. Jiangsu High Hope Int'l Group

8. Jiangsu Huayou International Logistics

9. LONGi Solar Technology Co., Ltd.

10. Shanghai JA Solar Technology Co., Ltd.

11. Shenzhen Sungold Solar Co., Ltd.

12. Suntech Power Co., Ltd.

13. Toenergy Technology Hangzhou Co., Ltd.

14. Trina Solar (Changzhou) Science and Technology Co., Ltd.

15. Trina Solar Co., Ltd.

16. Wuxi Tianran Photovoltaic Co., Ltd.

17. Yingli Energy (China) Co., Ltd.

18. Changzhou Trina Solar Energy Co., Ltd.; Changzhou Trina Solar Yabang Energy Co., Ltd.; Hubei Trina Solar Energy Co., Ltd.; Turpan Trina Solar Energy Co., Ltd.; Yancheng Trina Solar Energy Technology Co., Ltd.; Changzhou Trina PV Ribbon Materials Co., Ltd.

Appendix III

List of Rescinded Companies

1. Canadian Solar Inc.; Canadian Solar International Limited; Canadian Solar Manufacturing; Canadian Solar Manufacturing (Changshu) Inc.; Canadian Solar Manufacturing (Luoyang) Inc.; CSI Cells Co., Ltd.; CSI Modules (Dafeng) Co., Ltd.; CSI Solar Power (China) Inc.; CSI-GCL Solar Manufacturing (Yancheng) Co., Ltd.

2. Changzhou Trina Hezhong Photoelectric Co., Ltd.

3. Trina (Hefei) Science and Technology Co., Ltd.

4. Yancheng Trinasolar Guoneng Science

5. Astronergy Co., Ltd.

6. Astronergy Solar

7. Baoding Jiasheng Photovoltaic Technology Co., Ltd.

8. Baoding Tianwei Yingli New Energy Resources Co., Ltd.

9. Beijing Tianneng Yingli New Energy Resources Co., Ltd.

10. Boviet Solar Technology Co., Ltd.

11. BYD (Shaoguan) Co., Ltd.

12. Chint Solar (HongKong) Company Limited

13. Chint Solar (Jiuquan) Co., Ltd.

14. DelSolar (Wujiang) Ltd.

15. DelSolar Co., Ltd.

16. De-Tech Trading Limited HK

17. Dongguan Sunworth Solar Energy Co., Ltd.

18. Eoplly New Energy Technology Co., Ltd.

19. ERA Solar Co., Ltd.

20. ET Solar Energy Limited

21. Fuzhou Sunmodo New Energy Equipment Co., Ltd.

22. GCL System Integration Technology Co., Ltd.

23. Hainan Yingli New Energy Resources Co., Ltd.

24. Hangzhou Sunny Energy Science and Technology Co., Ltd.

25. Hefei JA Solar Technology Co., Ltd.

26. Hengdian Group DMEGC Magnetics Co., Ltd.

27. Hengshui Yingli New Energy Resources Co., Ltd.

28. JA Solar Co., Ltd. (aka JingAo Solar Co., Ltd.)

29. JA Solar International Limited

30. Jiangsu Jinko Tiansheng Solar Co., Ltd.

31. Jinko Solar International Limited

32. Jiujiang Shengzhao Xinye Technology Co., Ltd.

33. Light Way Green New Energy Co., Ltd.

34. Lixian Yingli New Energy Resources Co., Ltd.

35. Longi (HK) Trading Ltd.

36. Luoyang Suntech Power Co., Ltd.

37. Nice Sun PV Co., Ltd.

38. Ningbo ETDZ Holdings Ltd.

39. Penglai Jutal Offshore Engineering

40. ReneSola Jiangsu Ltd.

41. Renesola Zhejiang Ltd.

42. Risen Energy (HongKong) Co., Ltd.

43. Shenzhen Topray Solar Co., Ltd.

44. Shenzhen Yingli New Energy Resources Co., Ltd.

45. Solar Philippines Module

46. Sumec Hardware and Tools Co., Ltd.

47. Sunpreme Solar Technology (Jiaxing) Co., Ltd.

48. Suntimes Technology Co., Limited

49. Systemes Versilis, Inc.

50. Taimax Technologies Inc.

51. Taizhou BD Trade Co., Ltd.

52. Talesun Energy

53. Talesun Solar

54. tenKsolar (Shanghai) Co., Ltd.

55. Tianjin Yingli New Energy Resources Co., Ltd.

56. Vina Solar Technology Co., Ltd.

57. Wuxi Suntech Power Co., Ltd.

58. Yingli Green Energy International Trading Company Limited

59. Zhejiang ERA Solar Technology Co., Ltd.

60. Zhejiang Sunflower Light Energy Science & Technology Limited Liability Company

[FR Doc. 2023-14563 Filed 7-10-23; 8:45 am]

BILLING CODE 3510-DS-P